FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR 515.

License No. | Name/Address | Date reissued
17310N | J.M.C. Transport Corporation., 9133 South La Cienega Blvd. #120, Inglewood, CA 90301 | December 8, 2002.
17151N | Ultra Air Cargo, Inc., 555 S. Isis Avenue, Inglewood, CA 90301 | November 1, 2002.
3883F | Brye International, Inc., 108 South Franklin Avenue Suite 15, Valley Stream, NY 11580 | December 3, 2002.
4175NF | Silken Fortress Corporation, dba Transcargo International, 5858 S. Holmes Avenue, Los Angeles, CA 90001 | December 8, 2002.

Sandra L. Kusumoto,
Director, Bureau of Consumer Complaints and Licensing.

[FR Doc. 03-4144 Filed 2-19-03; 8:45 am]

BILLING CODE 6730-01-P